NATIONAL AERONAUTICS AND SPACE ADMINISTRATION

[Notice: (07-056)]

Notice of Centennial Challenges 2007 Beam Power Challenge

AGENCY: National Aeronautics and Space Administration (NASA).

ACTION: Notice of Centennial Challenges 2007 Beam Power Challenge.

SUMMARY: This notice is issued in accordance with 42 U.S.C. 2451 (314)(d).

The 2007 Beam Power Challenge is now scheduled and teams that wish to compete may now register. The NASA Centennial Challenges Program is a program of prize contests to stimulate innovation and competition in space exploration and ongoing NASA mission areas. The 2007 Beam Power Challenge is a prize contest designed to promote the development of new power distribution technologies.

The 2007 Beam Power Challenge is being administered for NASA by the Spaceward Foundation. Their Web site is: http://www.spaceward.org. The Centennial Challenges Web site is http://www.centennialchallenges.nasa.gov.

DATES: The qualifying rounds of the 2007 Beam Power Challenge will start on October 15, and the final competition event will be open to the public between the dates of October 19-21.

ADDRESSES: The location of the 2007 Beam Power Challenge will be held at the Davis County Event Center just outside of Salt Lake City, Utah. Questions and comments regarding the NASA Centennial Challenges Program should be addressed to Mr. Ken Davidian, Centennial Challenges Program, Innovative Partnerships Program Office, NASA Headquarters, 20546-0001.

FOR FURTHER INFORMATION CONTACT: Requests for additional information regarding the NASA Centennial Challenges Program should be directed to Mr. Ken Davidian, Centennial Challenges Program, Innovative Partnerships Program Office, NASA Headquarters, 20546-0001, (202) 358-0748, kdavidian@nasa.gov.

To register for and get additional information regarding the 2007 Beam Power Challenge, visit: http://www.elevator2010.org/site/competitionClimber2007.html.

SUPPLEMENTARY INFORMATION:

Summary

The 2007 Beam Power Challenge is designed to promote the development of new power distribution technologies. These technologies can be applied to many aspects of space exploration, including surface- or space-based point-to-point power transmission or delivery for robotic and/or human expeditions to planetary surfaces. This challenge may also support the development of far-term space infrastructure concepts such as space elevators and solar power satellites.

This challenge requires teams to design and build a climber (a machine that can go up and down a tether ribbon) while carrying a payload. Power will be beamed from a transmitter to a receiver on the climber.

I. Challenge Basis and Prize Amount

The 2007 Beam Power Challenge total purse is $500,000. Each climber must climb to a specified height traveling at a minimum speed of 1 meter per second. The teams with the highest score (the product of average velocity and payload mass normalized by the climber mass) will win the competition.

II. Eligibility

The Centennial Challenges Program has established the following language in the 2007 Beam Power Challenge Team Agreement governing eligibility. For this section, CHALLENGE is the 2007 Beam Power Challenge.

A TEAM is an individual or private entity, or a group of individuals or private entities, that register to participate in CHALLENGE. A TEAM is comprised of a TEAM LEADER and TEAM MEMBERS. A TEAM LEADER is, by definition, also a TEAM MEMBER.

TEAM MEMBERS are participants on the TEAM that are not the TEAM LEADER. To be eligible to win the CHALLENGE prize, an individual or entity, (a) in the case of a private entity, shall be incorporated in and maintain a primary place of business in the United States, and (b) in the case of an individual, whether participating individually or as a member of a group, shall be a citizen or permanent resident of the United States.

A TEAM LEADER is a single private entity or individual which is the sole agent representing TEAM regarding its participation in CHALLENGE. In the case of the TEAM LEADER that is a private entity, it must appoint an individual who is an officer of the private entity to represent the TEAM LEADER.

All TEAM MEMBERS will apply to register for the CHALLENGE through TEAM LEADER and must receive written concurrence by SPACEWARD.

All TEAM MEMBERS must execute an “Adoption of AGREEMENT” committing to all terms of this AGREEMENT. By signing below, TEAM LEADER represents that all Team Members have executed the Adoption of Agreement and that no one else will become a member of the TEAM or participate in the CHALLENGE until such new TEAM MEMBER has signed this Agreement. SPACEWARD may disqualify any TEAM if it discovers that a person is acting as a TEAM MEMBER who has not signed this Agreement. TEAM LEADER will provide SPACEWARD with a copy of the “Adoption of Agreement” signed by each team member.

Any U.S. Government organization or organization principally or substantially funded by the Federal Government, including Federally Funded Research and Development Centers, Government-owned, contractor operated (GOCO) facilities, and University Affiliated Research Centers, are ineligible to be a TEAM LEADER or TEAM MEMBER.

U.S. Government employees may not participate in the CHALLENGE as TEAM LEADER or TEAM MEMBER.

TEAM MEMBERS may participate in CHALLENGE on more than one TEAM.

III. Rules

The rules for the 2007 Beam Power Challenge can be found at: http://www.elevator2010.org/site/documents/climber_rulebook_2007.current.pdf.

Dated: July 31, 2007.
Douglas A. Comstock,
Director, Innovative Partnerships Program Office.

[FR Doc. E7-15519 Filed 8-8-07; 8:45 am]

BILLING CODE 7510-13-P